DEPARTMENT OF HEALTH AND HUMAN SERVICES

Centers for Disease Control and Prevention

Disease, Disability, and Injury Prevention and Control Special Emphasis Panel: Centers for Disease Control and Prevention (CDC) Grants for Public Health Research Dissertation, Program Announcement (PA) PAR 07-231, Panel A

Correction: This notice was published in the Federal Register on October 10, 2007, Volume 72, Number 195, page 57582. The time and date should read as follows:

Time and Date: 8:30 a.m.-5 p.m., November 15, 2007 (Closed).

Contact Person for More Information: Juliana Cyril, PhD, MPH, Scientific Review Administrator, Office of the Chief Science Officer, CDC, 1600 Clifton Road, NE., Mailstop D 72, Atlanta, GA 30333. Telephone (404) 639-4896.

The Director, Management Analysis and Services Office, has been delegated the authority to sign Federal Register notices pertaining to announcements of meetings and other committee management activities, for both CDC and the Agency for Toxic Substances and Disease Registry.

Dated: October 15, 2007.
Elaine L. Baker,
Acting Director, Management Analysis and Services Office, Centers for Disease Control and Prevention.

[FR Doc. E7-20688 Filed 10-19-07; 8:45 am]

BILLING CODE 4163-18-P